SMALL BUSINESS ADMINISTRATION

[License No. 02/72-0625]

Founders Equity SBIC I, L.P.; Notice Seeking Exemption Under Section 312 of the Small Business Investment Act, Conflicts of Interest

Notice is hereby given that Founders Equity SBIC I, L.P., 711 Fifth Avenue, 5th Floor, New York, New York 10022, a Federal Licensee under the Small Business Investment Act of 1958, as amended (“the Act”), in connection with the financing of a small concern, has sought an exemption under section 312 of the Act and section 107.730, Financings which Constitute Conflicts of Interest of the Small Business Administration (“SBA”) rules and regulations (13 CFR 107.730). Founders Equity SBIC I, L.P. proposes to provide convertible preferred equity security financing to Richardson Foods, Inc. (“Richardson”), 101 Erie Blvd., Canajoharie, NY 13317. The financing is contemplated to provide the company with working capital and cash to replace damaged assets.

The financing is brought within the purview of Sec. 107.730(a)(1) of the Regulations because Founders Equity NY, L.P., and Associate of Founders Equity SBIC I, L.P. owns 27% of Richardson. Therefore, this transaction is considered a financing of an Associate requiring prior SBA approval.

Notice is hereby given that any interested person may submit written comments on the transaction, within 15 days of the date of this publication, to the Associate Administrator for Investment, U.S. Small Business Administration, 409 Third Street, SW., Washington, DC 20416.

Dated: July 23, 2007.
Harry Haskins,
Acting Associate Administrator for Investment.

[FR Doc. 07-3753 Filed 7-31-07; 8:45 am]

BILLING CODE 8025-01-M